COMMITTEE FOR PURCHASE FROM PEOPLE WHO ARE BLIND OR SEVERELY DISABLED

Procurement List; Proposed Addition and Deletions

AGENCY: Committee for Purchase From People Who Are Blind or Severely Disabled.

ACTION: Proposed Addition to and Deletions from the Procurement List.

SUMMARY: The Committee is proposing to add a service to the Procurement List that will be provided by a nonprofit agency employing persons who are blind or have other severe disabilities, and deletes products previously furnished by such agencies.

DATES: Comments Must Be Received On Or Before: 8/11/2014.

ADDRESSES: Committee for Purchase From People Who Are Blind or Severely Disabled, 1401 S. Clark Street, Suite 10800, Arlington, Virginia, 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type/Location: Janitorial Service, U.S. Geological Survey, Illinois Water Science Center, 1201 W. University Avenue, Suite 100, Urbana, IL

NPA: United Cerebral Palsy of the Land of Lincoln, Springfield, IL

Contracting Activity: Dept of the Interior, Geological Survey, Eastern Region Acquisition and Grants Branch, Reston, VA

Deletions

The following products are proposed for deletion from the Procurement List:

Products

NSN: 2510-01-251-8548—Blanket, Insulation, Thermal, Vehicular

NSN: 2510-01-251-9995—Panel, Insulation, Vehicular, Interior Left Hand Front Tunnel

NSN: 2510-01-335-7363—Panel, Insulation, Vehicular, Interior Right Hand Front Tunnel

NSN: 2510-01-421-8067—Panel, Insulation, Vehicular, Cab

NPA: New York City Industries for the Blind, Inc., Brooklyn, NY

Contracting Activity: Defense Logistics Agency Land and Maritime, Columbus, OH

Label, Pressure-Sensitive Adhesive

NSN: 7530-00-577-4368

NSN: 7530-00-577-4369

NSN: 7530-00-577-4370

NSN: 7530-00-577-4371

NSN: 7530-00-577-4372

NSN: 7530-00-577-4376

NSN: 7530-00-982-0062

NSN: 7530-00-982-0064

NSN: 7530-00-982-0065

NSN: 7530-00-982-0066

NPA: North Central Sight Services, Inc., Williamsport, PA

Contracting Activity: General Services Administration, New York, NY

NSN: 8465-00-118-4956—Cover, Canteen, Water, Natural, 1 qt.

NPA: Lions Industries for the Blind, Inc., Kinston, NC

Contracting Activity: Defense Logistics Agency Troop Support, Philadelphia, PA

Barry S. Lineback,
Director, Business Operations.

[FR Doc. 2014-16232 Filed 7-10-14; 8:45 am]

BILLING CODE 6353-01-P